DEPARTMENT OF AGRICULTURE

Office of the Under Secretary, Research, Education, and Economics

Notice of the Advisory Committee on Biotechnology and 21st Century Agriculture Meeting

AGENCY: Agricultural Research Service.

ACTION: Notice of Meeting.

SUMMARY: In accordance with the Federal Advisory Committee Act, 5 U.S.C. App., the United States Department of Agriculture announces a meeting of the Advisory Committee on Biotechnology and 21st Century Agriculture (AC21).

DATES: September 15-16, 2003, 8:30 a.m. to 5 p.m. both days.

ADDRESSES: The Meeting will take place at the Waugh Auditorium, USDA Economic Research Service, Third Floor, South Tower, 1800 M St., NW., Washington, DC 20036. Members of the public wishing to make oral statements should send request, in writing or by e-mail, to the contact person identified herein. Written requests may be sent to the contact person at: USDA, Office of the Deputy Secretary, 202B Jamie L. Whitten Federal Building, 12th and Independence Avenue, SW., Washington, DC 20250. Request should be received at least 3 business days before the meeting.

FOR FURTHER INFORMATION CONTACT: Michael Schechtman, Designated Federal Official, Office of the Deputy Secretary, Telephone (202) 720-3817; Fax (202) 690-4265; e-mail mschechtman@ars.usda.gov.

SUPPLEMENTARY INFORMATION: The second meeting of the AC21 has been scheduled for September 15-16, 2003. The AC21 consists of 18 members representing the biotechnology industry, the seed industry, international plant genetics research, farmers, food manufacturers, commodity processors and shippers, environmental and consumer groups, along with academic researchers including a bioethicist. In addition, representatives from the Departments of Commerce, Health and Human Services, and State, and the Environmental Protection Agency, the Council on Environmental Quality, and the Office of the United States Trade Representative serve as “ex officio” members. The Committee meeting will be held from 8:30 am to 5 p.m. on each day. The topics to be discussed will include: (1) Approval of a framework for the AC21's main report; (2) review of a draft outline for the introduction to that report; (3) development of a plan for the preparation of the report and organization of work groups; and (4) continuation of discussion on impacts of biotechnology along the overall food production and distribution system, focusing on potential impacts of new value-added biotechnology products with direct consumer benefits.

Background information regarding the work of the AC21 will be available on the USDA Web site at http://www.usda.gov/agencies/biotech/ac21.html. On September 15, 2003, if time permits, reasonable provision will be made for oral presentations of no more than five minutes each in duration. The meeting will be open to the public, but space is limited. If you would like to attend the meetings, you must register by contacting Ms. Dianne Harmon at (202) 720-4074, by fax at (202) 720-3191 or by e-mail at dharmon@ars.usda.gov at least 5 days prior to the meeting. Please provide your name, title, business affiliation, address, telephone, and fax number when you register. If you require a sign language interpreter or other special accommodation due to disability, please indicate those needs at the time of registration.

Edward B. Knipling,
Acting Administrator.

[FR Doc. 03-21484 Filed 8-21-03; 8:45 am]

BILLING CODE 3410-18-P